DEPARTMENT OF JUSTICE

Notice of Lodging of Proposed Consent Decree Under the

Comprehensive Environmental Response, Compensation and Liability Act

On November 27, 2020, the Department of Justice lodged a proposed Consent Decree with the United States District Court for the District of New Jersey in the lawsuit entitled United States et al. v. Unimatic Manufacturing, Corp. et al., Civil Action No. 2:20-cv-17284.

The proposed Consent Decree would resolve claims the United States, New Jersey Department of Environmental Protection (“NJDEP”) and the Administrator of the New Jersey Spill Compensation Fund have brought pursuant to Section 107 of the Comprehensive Environmental Response, Compensation, and Liability Act (“CERCLA”), 42 U.S.C. 9607 and the New Jersey Spill Compensation and Control Act, N.J.S.A. 58:10-23.11 to -23.24 against Defendants Unimatic Manufacturing Corporation, Cardean, LLC, Frameware, Inc., and Profiles, LLC concerning the Unimatic Manufacturing Superfund Site (“Site”) in Fairfield, New Jersey.

Under the proposed Consent Decree, former owner and operator Unimatic Manufacturing Corp. will pay $3,499,198.65 to the United States, $349,919.87 to the NJDEP, and $900,000 to Cardean, LLC. Current owner Cardean, LLC will maintain its property at the Site and sell it at the request of the United States, providing the proceeds to United States. In return for their payments and other requirements, Defendants receive covenants not to sue relating to the Site under Sections 106 and 107(a) of CERCLA, 42 U.S.C. 9606 & 9607, and for certain state cleanup costs.

The publication of this notice opens a period for public comment on the Consent Decree. Comments should be addressed to the Assistant Attorney General, Environment and Natural Resources Division, and should refer to United States et al. v. Unimatic Manufacturing Corp. et al., D.J. Ref. No. 90-11-3-11559. All comments must be submitted no later than sixty (60) days after the publication date of this notice. Comments may be submitted either by email or by mail:

To submit comments: | Send them to:
By e-mail | pubcomment-ees.enrd@usdoj.gov
By mail | Assistant Attorney General, U.S. DOJ—ENRD, P.O. Box 7611, Washington, D.C. 20044-7611

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $20.00 (25 cents per page reproduction cost) payable to the United States Treasury. For a paper copy without the exhibits, the cost is $8.25.

Henry S. Friedman,
Assistant Section Chief, Environmental Enforcement Section, Environment and Natural Resources Division.

[FR Doc. 2020-26670 Filed 12-3-20; 8:45 am]

BILLING CODE 4410-15-P